NUCLEAR REGULATORY COMMISSION

[NRC-2012-0116]

Biweekly Notice; Applications and Amendments to Facility Operating Licenses and Combined Licenses Involving No Significant Hazards Considerations

Background

Pursuant to Section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from May 16 to May 29, 2012. The last biweekly notice was published on May 15, 2012 (77 FR 28626).

ADDRESSES: You may access information and comment submissions related to this document, which the NRC possesses and are publicly available, by searching on http://www.regulations.gov under Docket ID NRC-2012-0116. You may submit comments by the following methods:

• Federal Rulemaking Web site: Go to http://www.regulations.gov and search for Docket ID NRC-2012-0116. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0116 when contacting the NRC about the availability of information regarding this document. You may access information related to this document, which the NRC possesses and is publicly available, by the following methods:

• Federal Rulemaking Web Site: Go to http://www.regulations.gov and search for Docket ID NRC-2012-0116.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0116 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in Title 10 of the Code of Federal Regulations (10 CFR) 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination; any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in the NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Dominion Nuclear Connecticut, Inc., Docket No. 50-423, Millstone Power Station, Unit 3, New London County, Connecticut

Date of amendment request: April 2, 2012.

Description of amendment request: The proposed amendment would revise the Millstone Power Station, Unit 3 (MPS3) Technical Specification (TS) Surveillance Requirements (SRs) for snubbers to conform to the MPS3 Snubber Examination, Testing, and Service Life Monitoring Program Plan.

Basis for proposed no significant hazards consideration determination: As required by Title 10 of the Code of Federal Regulations (10 CFR) 50.91(a), the licensee has provided its analysis of the issue of no significant hazards consideration, which is presented below:

Criterion 1

Will operation of the facility in accordance with the proposed change involve a significant increase in the probability or consequences of an accident previously evaluated?

Response: No.

The proposed changes revise TS SR 4.7.10 to conform the TSs to the revised snubber program. Snubber examination, testing and service life monitoring will continue to meet the requirements of 10 CFR 50.55a(g) except where the NRC has granted specific written relief, pursuant to 10 CFR 50.55a(g)(6)(i), or authorized alternatives pursuant to 10 CFR 50.55a(a)(3).

Snubber examination, testing and service life monitoring is not an initiator of any accident previously evaluated. Therefore, the probability of an accident previously evaluated is not significantly increased.

Snubbers will continue to be demonstrated operable by performance of a program for examination, testing and service life monitoring in compliance with 10 CFR 50.55a or authorized alternatives. The proposed change to TS ACTION 3.7.10 for inoperable snubbers is administrative in nature and is required for consistency with the proposed change to TS SR 4.7.10. Therefore, the proposed changes do not adversely affect plant operations, design functions or analyses that verify the capability of systems, structures, and components to perform their design functions. The consequences of accidents previously evaluated are not significantly increased.

Therefore, the proposed changes do not involve a significant increase in the probability or consequences of an accident previously evaluated.

Criterion 2

Will operation of the facility in accordance with this proposed change create the possibility of a new or different kind of accident from any accident previously evaluated?

Response: No.

The proposed changes do not involve any physical alteration of plant equipment. The proposed changes do not change the method by which any safety-related system performs its function. As such, no new or different types of equipment will be installed, and the basic operation of installed equipment is unchanged. The methods governing plant operation and testing remain consistent with current safety analysis assumptions.

Therefore, the proposed changes do not create the possibility of a new or different kind of accident from any previously evaluated.

Criterion 3

Will operation of the facility in accordance with this proposed change involve a significant reduction in the margin of safety?

Response: No.

The proposed changes ensure snubber examination, testing and service life monitoring will continue to meet the requirements of 10 CFR 50.55a(g) except where the NRC has granted specific written relief, pursuant to 10 CFR 50.55a(g)(6)(i), or authorized alternatives pursuant to 10 CFR 50.55a(a)(3). Snubbers will continue to be demonstrated operable by performance of a program for examination, testing and service life monitoring in compliance with 10 CFR 50.55a or authorized alternatives. The proposed change to TS ACTION 3.7.10 for inoperable snubbers is administrative in nature and is required for consistency with the proposed change to TS SR 4.7.10.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: George A. Wilson.

Dominion Nuclear Connecticut, Inc., Docket No. 50-423, Millstone Power Station, Unit 3, New London County, Connecticut

Date of amendment request: April 12, 2012.

Description of amendment request: The proposed amendment would permanently revise Technical Specification (TS) 6.8.4.g, “Steam Generator (SG) Program,” to exclude a portion of the steam generator tubes below the top of the steam generator tubesheet from periodic inspections. Inclusion of the permanent alternate repair criteria (PARC) in TS 6.8.4.g permits deletion of the previous temporary alternate repair criteria (TARC) for Cycle 15. In addition, this amendment request also proposes to revise the reporting criteria in TS 6.9.1.7, “Steam Generator Tube Inspection Report,” to remove reference to the previous Cycle 15 TARC, and add reporting requirements specific to the PARC.

Basis for proposed no significant hazards consideration determination: As required by 10 CFR 50.91(a), the licensee has provided its analysis of the issue of no significant hazards consideration, which is presented below:

1. Does the proposed change involve a significant increase in the probability or consequences of an accident previously evaluated?

Response: No.

The previously analyzed accidents are initiated by the failure of plant structures, systems, or components. The proposed change that alters the steam generator inspection criteria and the steam generator inspection reporting criteria does not have a detrimental impact on the integrity of any plant structure, system, or component that initiates an analyzed event. The proposed change will not alter the operation of, or otherwise increase the failure probability of any plant equipment that initiates an analyzed accident.

Of the applicable accidents previously evaluated, the limiting transients with consideration to the proposed change to the steam generator tube inspection and repair criteria are the steam generator tube rupture (SGTR) event and the feedline break (FLB) postulated accidents.

During the SGTR event, the required structural integrity margins of the steam generator tubes and the tube-to-tubesheet joint over the H* distance will be maintained. Tube rupture in tubes with cracks within the tubesheet is precluded by the constraint provided by the tube-to-tubesheet joint. This constraint results from the hydraulic expansion process, thermal expansion mismatch between the tube and tubesheet, and from the differential pressure between the primary and secondary side. Based on this design, the structural margins against burst, as discussed in Regulatory Guide (RG) 1.121, “Bases for Plugging Degraded PWR [Pressurized-Water Reactor] Steam Generator Tubes,” (Reference 25) are maintained for both normal and postulated accident conditions.

The proposed change has no impact on the structural or leakage integrity of the portion of the tube outside of the tubesheet. The proposed change maintains structural integrity of the steam generator tubes and does not affect other systems, structures, components, or operational features. Therefore, the proposed change results in no significant increase in the probability of the occurrence of a[n] SGTR accident.

At normal operating pressures, leakage from primary water stress corrosion cracking below the proposed limited inspection depth is limited by both the tube-to-tubesheet crevice and the limited crack opening permitted by the tubesheet constraint. Consequently, negligible normal operating leakage is expected from cracks within the tubesheet region. The consequences of an SGTR event are affected by the primary-to-secondary leakage flow during the event. However, primary-to-secondary leakage flow through a postulated broken tube is not affected by the proposed changes since the tubesheet enhances the tube integrity in the region of the hydraulic expansion by precluding tube deformation beyond its initial hydraulically expanded outside diameter. Therefore, the proposed changes do not result in a significant increase in the consequences of a[n] SGTR.

The consequences of a steam line break (SLB) are also not significantly affected by the proposed changes. During a[n] SLB accident, the reduction in pressure above the tubesheet on the shell side of the steam generator creates an axially uniformly distributed load on the tubesheet due to the reactor coolant system pressure on the underside of the tubesheet. The resulting bending action constrains the tubes in the tubesheet thereby restricting primary-to-secondary leakage below the mid-plane.

Primary-to-secondary leakage from tube degradation in the tubesheet area during the limiting accident (i.e., a[n] SLB) is limited by flow restrictions. These restrictions result from the crack and tube-to-tubesheet contact pressures that provide a restricted leakage path above the indications and also limit the degree of potential crack face opening as compared to free span indications.

The leakage factor of 2.49 for Millstone Power Station Unit 3 (MPS3), for a postulated SLB/FLB, has been calculated as shown in Table RA124-2 (Revised Table 9-7) of Reference 19. Specifically, for the condition monitoring (CM) assessment, the component of leakage from the prior cycle from below the H* distance will be multiplied by a factor of 2.49 and added to the total leakage from any other source and compared to the allowable accident induced leakage limit. For the operational assessment (OA), the difference in the leakage between the allowable leakage and the accident induced leakage from sources other than the tubesheet expansion region will be divided by 2.49 and compared to the observed operational leakage.

The probability of a[n] SLB is unaffected by the potential failure of a steam generator tube as the failure of the tube is not an initiator for a[n] SLB event. SLB leakage is limited by leakage flow restrictions resulting from the leakage path above potential cracks through the tube-to-tubesheet crevice. The leak rate during postulated accident conditions (including locked rotor) has been shown to remain within the accident analysis assumptions for all axial and or circumferentially orientated cracks occurring 15.2 inches below the top of the tubesheet. The accident induced leak rate limit is 1.0 gpm. The TS operational leak rate is 150 gpd (0.1 gpm) through any one steam generator. Consequently, there is significant margin between accident leakage and allowable operational leakage. The SLB/FLB leak rate ratio is only 2.49 resulting in significant margin between the conservatively estimated accident leakage and the allowable accident leakage (1.0 gpm).

Therefore, the proposed change does not involve a significant increase in the probability or consequences of an accident previously evaluated.

2. Does the change create the possibility of a new or different kind of accident from any accident previously evaluated?

Response: No.

The proposed change that alters the steam generator inspection criteria and the steam generator inspection reporting criteria does not introduce any new equipment, create new failure modes for existing equipment, or create any new limiting single failures. Plant operation will not be altered, and all safety functions will continue to perform as previously assumed in accident analyses.

Therefore, the proposed change does not create the possibility of a new or different kind of accident from any accident previously evaluated.

3. Does the change involve a significant reduction in a margin of safety?

Response: No.

The proposed change that alters the steam generator inspection criteria and the steam generator inspection reporting criteria maintains the required structural margins of the steam generator tubes for both normal and accident conditions. NEI [Nuclear Energy Institute] 97-06, Revision 3, “Steam Generator Program Guidelines” (Reference 1) and RG 1.121, “Bases for Plugging Degraded PWR Steam Generator Tubes” (Reference 25), are used as the bases in the development of the limited tubesheet inspection depth methodology for determining that steam generator tube integrity considerations are maintained within acceptable limits. RG 1.121 describes a method acceptable to the Nuclear Regulatory Commission for meeting GDC 14, “Reactor Coolant Pressure Boundary,” GDC 15, “Reactor Coolant System Design,” GDC 31, “Fracture Prevention of Reactor Coolant Pressure Boundary,” and GDC 32, “Inspection of Reactor Coolant Pressure Boundary,” by reducing the probability and consequences of a[n] SGTR. RG 1.121 concludes that by determining the limiting safe conditions for tube wall degradation the probability and consequences of a[n] SGTR are reduced. This RG uses safety factors on loads for tube burst that are consistent with the requirements of Section III of the American Society of Mechanical Engineers (ASME) Code.

For axially oriented cracking located within the tubesheet, tube burst is precluded due to the presence of the tubesheet. For circumferentially oriented cracking, the H* analysis, documented in Section 4.0 of this enclosure, defines a length of degradation free expanded tubing that provides the necessary resistance to tube pullout due to the pressure induced forces, with applicable safety factors applied. Application of the limited hot and cold leg tubesheet inspection criteria will preclude unacceptable primary-to-secondary leakage during all plant conditions. The methodology for determining leakage provides for large margins between calculated and actual leakage values in the proposed limited tubesheet inspection depth criteria.

Therefore, the proposed change does not involve a significant reduction in any margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: George A. Wilson.

Duke Energy Carolinas, LLC, Docket Nos. 50-369 and 50-370, McGuire Nuclear Station, Units 1 and 2, Mecklenburg County, North Carolina

Date of amendment request: September 26, 2011.

Description of amendment request: The proposed amendments would change the Technical Specifications (TSs) to adopt NUREG-1431, “Standard Technical Specifications [STSs]—Westinghouse [Electric Company] Plants,” STS 3.8.3, “Diesel Fuel Oil, Lube Oil, and Starting Air,” Condition E, regarding Diesel Generator [DG] starting air receiver pressure limits.

Basis for proposed no significant hazards consideration determination: As required by 10 CFR 50.91(a), the licensee has provided its analysis of the issue of no significant hazards consideration, which is presented below:

A. Does the proposed amendment involve a significant increase in the probability or consequences of an accident previously evaluated?

Response: No.

Implementation of the proposed amendment does not significantly increase the probability or the consequences of an accident previously evaluated. The DGs and their associated emergency buses function as accident mitigators. The proposed changes do not involve a change in the operational limits or the design of the electrical power systems (particularly the emergency power systems) or change the function or operation of plant equipment or affect the response of that equipment when called upon to operate.

The proposed changes to TS 3.8.3 Condition D are consistent with STS 3.8.3 Condition E, and they still ensure the DGs' ability to fulfill their safety-related function.

Thus, based on the above, the proposed changes do not involve a significant increase in the probability or consequences of an accident previously evaluated.

B. Does the proposed amendment create the possibility of a new or different kind of accident from any accident previously evaluated?

Response: No.

The proposed changes do not involve a change in the operational limits or the design capabilities of the emergency electrical power systems. The proposed changes do not change the function or operation of plant equipment or introduce any new failure mechanisms. The technical evaluation that supports this License Amendment Request included a review of the DG starting air system capability to which these changes are bounded. The proposed changes do not introduce any new or different types of failure mechanisms; plant equipment will continue to respond as designed and analyzed.

C. Does the proposed amendment involve a significant reduction in the margin of safety?

Response: No.

Margin of safety is related to the confidence in the ability of the fission product barriers to perform their design functions during and following an accident situation. These barriers include the fuel cladding, the reactor coolant system, and the containment system. The performance of the fuel cladding, the reactor coolant system and the containment system will not be adversely impacted by the proposed changes since the ability of the DGs to mitigate an analyzed accident has not been adversely impacted by the proposed changes.

Thus, it is concluded that the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Nancy L. Salgado.

Exelon Generation Company, LLC, Docket Nos. STN 50-456 and STN 50-457, Braidwood Station, Units 1 and 2, Will County, Illinois; Docket Nos. STN 50-454 and STN 50-455, Byron Station, Units 1 and 2, Ogle County, Illinois

Date of amendment request: January 31, 2012.

Description of amendment request: The proposed change would revise the Updated Final Safety Analysis Report (UFSAR) to describe the use of an Auxiliary Feedwater (AF) cross-tie. Specifically, this change adds information to the UFSAR describing the design and shared operation of cross-tie piping between the discharges of the Unit 1 and Unit 2 Train A motor-driven AF pumps.

Basis for proposed no significant hazards consideration determination: As required by 10 CFR 50.91(a), the licensee has provided its analysis of the issue of no significant hazards consideration, which is presented below:

1. Does the proposed change involve a significant increase in the probability or consequences of an accident previously evaluated?

Response: No.

The AF system is normally in standby and a failure of the AF system during normal operations or emergency operations cannot initiate any of the accidents previously evaluated. The use of the AF Train A unit cross-tie does not interface with the reactor coolant system, containment, or engineered safeguards features in such a way as to be a precursor or initiator for an accident previously evaluated. The AF system is capable of performing the safety-related functions required to mitigate the effects of design basis accidents. Conditions which impose safety-related performance requirements on the design of the AF system include the following: loss of main feedwater transient, secondary system pipe breaks, loss of all a-c power, loss-of-coolant accident (LOCA), and cooldown (after expected transients, accidents, and other scenarios). For the non-accident unit, controls ensure compliance with existing TS conditions that ensure one train remains operable and the condition exists for a limited time. The AF system will continue to be used in compliance with the existing conditions in the TS. Since the AF system is assured of performing its intended design function in mitigating the effects of design basis accidents, the consequences of accidents previously evaluated in the UFSAR will not be increased.

Therefore, the proposed change does not involve a significant increase in the probability or consequences of an accident previously evaluated.

2. Does the proposed change create the possibility of a new or different kind of accident from any accident previously evaluated?

Response: No.

Failures of the AF system cannot initiate an accident. The proposed use of an AF Train A unit cross-tie will not interface with the reactor coolant system, containment, or engineered safeguards features. Failure modes and effects described in the UFSAR are not impacted. The electrical power supplies and AF system pumps will be maintained in design basis train alignments. Use of an AF Train A unit cross-tie will have no impact on the range of initiating events previously assessed. Thus, the accident analysis presented in the UFSAR is not impacted. The change is consistent with the safety analysis assumptions.

Therefore, the proposed change does not create the possibility of a new or different kind of accident from any accident previously evaluated.

3. Does the proposed change involve a significant reduction in a margin of safety?

Response: No.

The margin of safety is not reduced. Results of the existing UFSAR accident analysis are not impacted, and therefore the safety margins are not impacted. The proposed change will not reduce a margin of safety because the non-accident unit will be operated within existing TS conditions. For the non-accident unit, controls ensure compliance with existing TS conditions that ensure one train remains operable and the condition exists for a limited time. The AF Train A unit cross-tie is not a credited flow path in design basis or needed to meet a safety function. The AF Train A unit cross-tie is an additional strategy made available if a total loss of secondary heat sink should occur. The AF Train A unit cross-tie would be initiated if the feed flow to at least one SG cannot be verified during the event, and an appropriate SG level cannot be maintained to regain secondary heat sink. As such, the AF Train A unit cross-tie is an improvement in emergency procedures for a total loss of heat sink, and this improves probabilistic risk assessment. The proposed change, therefore, does not involve a reduction in a margin of safety.

Based on the above, EGC concludes that the proposed change presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the requested amendments involve no significant hazards consideration.

Attorney for licensee: Mr. Bradley J. Fewell, Associate General Counsel, Exelon Nuclear, 4300 Winfield Road, Warrenville, IL 60555.

NRC Branch Chief: Jacob I. Zimmerman.

Exelon Generation Company, LLC, Docket Nos. STN 50-456 and STN 50-457, Braidwood Station, Units 1 and 2, Will County, Illinois; Docket Nos. STN 50-454 and STN 50-455, Byron Station, Units 1 and 2, Ogle County, Illinois

Date of amendment request: March 22, 2012.

Description of amendment request: The proposed amendment would modify technical specification requirements regarding steam generator tube inspections and reporting as described in TSTF-510, Revision 2, “Revision to Steam Generator Program Inspection Frequencies and Tube Sample Selection;” however, Exelon Generating Company (EGC) is proposing certain variations and deviations from TSTF-510.

Basis for proposed no significant hazards consideration determination: As required by 10 CFR 50.91(a), the licensee has provided its analysis of the issue of no significant hazards consideration, which is presented below:

1. Does the proposed change involve a significant increase in the probability or consequences of an accident previously evaluated.

Response: No.

The proposed change revises the Steam Generator (SG) Program to modify the frequency of verification of SG tube integrity and SG tube sample selection. A steam generator tube rupture (SGTR) event is one of the design basis accidents that are analyzed as part of a plant's licensing basis. The proposed SG tube inspection frequency and sample selection criteria will continue to ensure that the SG tubes are inspected such that the probability of a SGTR is not increased. The consequences of a SGTR are bounded by the conservative assumptions in the design basis accident analysis. The proposed change will not cause the consequences of a SGTR to exceed those assumptions.

Therefore, it is concluded that this change does not involve a significant increase in the probability or consequences of an accident previously evaluated.

2. Does the proposed change create the possibility of a new or different kind of accident from any accident previously evaluated?

Response: No.

The proposed changes to the Steam Generator Program will not introduce any adverse changes to the plant design basis or postulated accidents resulting from potential tube degradation. The proposed change does not affect the design of the SGs or their method of operation. In addition, the proposed change does not impact any other plant system or component.

Therefore, it is concluded that this change does not create the possibility of a new or different kind of accident from any accident previously evaluated.

3. Does the proposed change involve a significant reduction in a margin of safety?

Response: No.

The SG tubes in pressurized water reactors are an integral part of the reactor coolant pressure boundary and, as such, are relied upon to maintain the primary system's pressure and inventory. As part of the reactor coolant pressure boundary, the SG tubes are unique in that they are also relied upon as a heat transfer surface between the primary and secondary systems such that residual heat can be removed from the primary system. In addition, the SG tubes also isolate the radioactive fission products in the primary coolant from the secondary system. In summary, the safety function of a SG is maintained by ensuring the integrity of its tubes.

Steam generator tube integrity is a function of the design, environment, and the physical condition of the tube. The proposed change does not affect tube design or operating environment. The proposed change will continue to require monitoring of the physical condition of the SG tubes such that there will not be a reduction in the margin of safety compared to the current requirements.

The proposed amendment deletes the current TS 5.5.9.c.2 and TS 5.5.9.f.2 allowance to use ABB Combustion Engineering Inc. TIG welded sleeves as a steam generator tube repair method. There are no ABB Combustion Engineering Inc. (Westinghouse) TIG-welded sleeves currently installed in the Braidwood Station, Unit 2, and Byron Station, Unit 2, SGs. EGC has been informed by the sleeve vendor that TIG welded sleeves are no longer commercially available. As a result of this change, there are no available SG tube repair methods for Braidwood Station or Byron Station. The proposed amendment deletes TS 5.5.9.f, TS 5.5.9.c.2, TS 5.5.9.c.3, and references to tube repair and sleeves in various TS. Removing the ability for tube repair methods is conservative; therefore, the proposed change does not involve a significant reduction in a margin of safety.

Therefore, it is concluded that the proposed change does not involve a significant reduction in a margin of safety.

Based on the above, EGC concludes that the proposed change presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the requested amendments involve no significant hazards consideration.

Attorney for licensee: Mr. Bradley J. Fewell, Associate General Counsel, Exelon Nuclear, 4300 Winfield Road, Warrenville, IL 60555.

NRC Branch Chief: Jacob I. Zimmerman.

NextEra Energy Seabrook, LLC Docket No. 50-443, Seabrook Station, Unit 1, Rockingham County, New Hampshire

Date of amendment request: April 30, 2012.

Description of amendment request: The proposed changes to the Seabrook Emergency Plan are associated with the initiating conditions involving a loss of safety system annunciation or indication in the control room. The proposed changes revise the emergency action levels (EALs) to include radiation monitoring indications within the aggregate of safety system indications that are considered when evaluating a loss of safety system indications rather than separate EALs.

Basis for proposed NSHC determination: As required by 10 CFR 50.91(a), the licensee has provided its analysis of the issue of NSHC, which is presented below:

1. The proposed change does not involve a significant increase in the probability or consequences of an accident previously evaluated.

The proposed changes to the Seabrook Station emergency plan do not impact the physical function of plant structures, systems, or components (SSCs) or the manner in which SSCs perform their design function. The proposed changes neither adversely affect accident initiators or precursors, nor alter design assumptions. The proposed changes do not alter or prevent the ability of operable SSCs to perform their intended function to mitigate the consequences of an initiating event within assumed acceptance limits. No operating procedures or administrative controls that function to prevent or mitigate accidents are affected by the proposed changes.

Therefore, the proposed changes do not involve a significant increase in the probability or consequences of an accident previously evaluated.

2. The proposed change does not create the possibility of a new or different kind of accident from any previously evaluated.

The proposed changes will not impact the accident analysis. The changes do not involve a physical alteration of the plant (i.e., no new or different type of equipment will be installed), a change in the method of plant operation, or new operator actions. The proposed changes will not introduce failure modes that could result in a new accident, and the change does not alter assumptions made in the safety analysis. The proposed changes revise emergency action levels (EAL), which establish the thresholds for placing the plant in an emergency classification. EALs are not initiators of any accidents.

Therefore, the proposed change does not create the possibility of a new or different kind of accident from any accident previously evaluated.

3. The proposed change does not involve a significant reduction in the margin of safety.

Margin of safety is associated with confidence in the ability of the fission product barriers (i.e., fuel cladding, reactor coolant system pressure boundary, and containment structure) to limit the level of radiation dose to the public. The proposed changes are associated with the EALs and do not impact operation of the plant or its response to transients or accidents. The changes do not affect the Technical Specifications or the operating license. The proposed changes do not involve a change in the method of plant operation, and no accident analyses will be affected by the proposed changes. Additionally, the proposed changes will not relax any criteria used to establish safety limits and will not relax any safety system settings. The safety analysis acceptance criteria are not affected by these changes. The proposed changes will not result in plant operation in a configuration outside the design basis. The proposed changes do not adversely affect systems that respond to safely shutdown the plant and to maintain the plant in a safe shutdown condition.

The revised EALs provide more appropriate and accurate criteria for determining protective measures that should be considered within and outside the site boundary to protect health and safety. The emergency plan will continue to activate an emergency response commensurate with the extent of degradation of plant safety.

Therefore, the proposed changes do not involve a significant reduction in a margin of safety.

The NRC staff has reviewed the licensee's analysis and, based on this review, it appears that the three standards of 50.92(c) are satisfied. Therefore, the NRC staff proposes to determine that the amendment request involves NSHC.

Attorney for licensee: M.S. Ross, Florida Power & Light Company, P.O. Box 14000, Juno Beach, FL 33408-0420.

NRC Branch Chief: Meena Khanna.

Southern Nuclear Operating Company, Inc., Docket Nos. 52-025 and 52-026, Vogtle Electric Generating Plant (VEGP) Units 3 and 4, Burke County, Georgia

Date of amendment request: February 24, 2012.

Description of amendment request: The proposed changes would amend Combined License Nos. NPF-91 and NPF-92, for VEGP Units 3 and 4, respectively, in regard to the Technical Specifications (TS). The proposed amendment updates the TS for operator usability that more closely aligns with the form and content of other improved Standard Technical Specifications NUREGs. Specifically, the changes would result in closer alignment with the guidance of the Technical Specifications Task Force (TSTF) Writer's Guide for Plant-Specific Improved Technical Specifications, TSTF-GG-05-01, Revision 1, and with NUREG-1431, Standard Technical Specifications-Westinghouse Plants as updated by the U.S. Nuclear Regulatory Commission (NRC) approved generic changes.

Basis for proposed no significant hazards consideration determination: As required by 10 CFR 50.91(a), the licensee has provided its analysis of the issue of no significant hazards consideration, which is presented below:

In accordance with the provisions of 10 CFR 50.90, Southern Nuclear Operating Company (SNC) proposes to amend the VEGP TS. Evaluations pursuant to 10 CFR 50.92 showing that the proposed changes do not involve significant hazards considerations are provided for each change.

However, due to the significant number of changes associated with the upgrade effort, SNC has grouped similar changes into categories to facilitate the significant hazards evaluations required by 10 CFR 50.92. Generic significant hazards evaluations are provided for the Administrative, More Restrictive, Relocation, and Detail Removed categories. Each individual Less Restrictive change is addressed by a specific significant hazards evaluation. Due to the large volume of changes, obvious editorial or administrative changes (e.g., formatting, page rolls, punctuation, etc.) have not always received an explicit discussion, but are considered to be addressed by the applicable generic significant hazards evaluation for Administrative changes.

Each significant change to the TS is marked-up on the appropriate page in Enclosure 2 of its submittal and assigned a reference number reflective of the significant hazards evaluation type. The reference number assigned to a change is used in the Discussion of Change (DOC) in Enclosure 1 of its submittal which provides a detailed description (basis) for each change supporting the applicable significant hazards evaluation in Enclosure 6 of its submittal.

10 CFR 50.92 Evaluation for Administrative Changes

SNC proposes to amend the VEGP Units 3 and 4, Technical Specifications. SNC has evaluated each of the proposed TS changes identified as Administrative in accordance with the criteria set forth in 10 CFR 50.92, “Issuance of amendment,” and has determined that the proposed changes do not involve a significant hazards consideration. This significant hazards consideration is applicable to each Administrative change identified in Enclosure 1 and Enclosure 2 of its submittal.

The basis for the determination that the proposed changes do not involve a significant hazards consideration is an evaluation of these changes against each of the criteria in 10 CFR 50.92(c). The criteria and conclusions of the evaluation are presented below:

1. Does the proposed change involve a significant increase in the probability or consequences of an accident previously evaluated?

Response: No.

The proposed changes involve reformatting, renumbering, and rewording the TS. The reformatting, renumbering, and rewording process involves no technical changes to the TS. As such, these changes are administrative in nature and do not affect initiators of analyzed events or assumed mitigation of accident or transient events.

Therefore, the proposed changes do not involve a significant increase in the probability or consequences of an accident previously evaluated.

2. Does the proposed change create the possibility of a new or different kind of accident from any accident previously evaluated?

Response: No.

The proposed changes do not involve a physical alteration of the plant (no new or different type of equipment will be installed) or changes in methods governing normal plant operation. The proposed changes will not impose any new or different requirements, or eliminate any existing requirements.

Therefore, the proposed changes do not create the possibility of a new or different kind of accident from any accident previously evaluated.

3. Does the proposed change involve a significant reduction in a margin of safety?

Response: No.

The proposed changes will not reduce a margin of safety because the changes have no effect on any safety analyses assumptions. These changes are administrative in nature. Therefore, the proposed changes do not involve a significant reduction in a margin of safety.

10 CFR 50.92 Evaluation for More Restrictive Changes

This generic category include changes that impose additional requirements, decrease allowed outage times, increase the Frequency of Surveillances, impose additional Surveillances, increase the scope of Specifications to include additional plant equipment, broaden the Applicability of Specifications, or provide additional actions. These changes have been evaluated to not be detrimental to plant safety.

Changes to the TS requirements categorized as More Restrictive are annotated with an “M” in the Enclosure 1 DOC and Enclosure 2 markup of its submittal.

SNC proposes to amend the VEGP Units 3 and 4 TS. SNC has evaluated each of the proposed TS changes identified as More Restrictive in accordance with the criteria set forth in 10 CFR 50.92, “Issuance of amendment,” and has determined that the proposed changes do not involve a significant hazards consideration. This significant hazards consideration is applicable to each More Restrictive change identified in Enclosure 1 and Enclosure 2 of its submittal.

The basis for the determination that the proposed changes do not involve a significant hazards consideration is an evaluation of these changes against each of the criteria in 10 CFR 50.92(c). The criteria and conclusions of the evaluation are presented below:

1. Does the proposed change involve a significant increase in the probability or consequences of an accident previously evaluated?

Response: No.

The proposed changes provide more stringent TS requirements. These more stringent requirements do not result in operations that significantly increase the probability of initiating an analyzed event, and do not alter assumptions relative to mitigation of an accident or transient event. The more restrictive requirements continue to ensure process variables, structures, systems, and components are maintained consistent with the safety analyses and licensing basis.

Therefore, the proposed changes do not involve a significant increase in the probability or consequences of an accident previously evaluated.

2. Does the proposed change create the possibility of a new or different kind of accident from any accident previously evaluated?

Response: No.

The proposed changes do not involve a physical alteration of the plant (no new or different type of equipment will be installed) or changes in methods governing normal plant operation. The proposed changes do impose different Technical Specification requirements. However, these changes are consistent with the assumptions in the safety analyses and licensing basis.

Therefore, the proposed changes do not create the possibility of a new or different kind of accident from any accident previously evaluated.

3. Does the proposed change involve a significant reduction in a margin of safety?

Response: No.

The imposition of more restrictive requirements either has no effect on or increases a margin of plant safety. As provided in the discussion of change, each change in this category is, by definition, providing additional restrictions to enhance plant safety. The changes maintain requirements within the safety analyses and licensing basis.

Therefore, the proposed changes do not involve a significant reduction in a margin of safety.

10 CFR 50.92 Evaluation for Relocated Specifications

This generic category applies to changes that relocate entire TS Limiting Conditions for Operations (LCOs). A specific DOC for each TS identified for relocation is provided in Enclosure 1. This evaluation will be applicable to each of the changes identified with an “R” in the Enclosure 1 DOC and the associated Enclosure 2 markup of its submittal.

SNC has evaluated each of the proposed TS changes identified as Relocated Specifications in accordance with the criteria set forth in 10 CFR 50.92, “Issuance of Amendment,” and has determined that the proposed changes do not involve a significant hazards consideration. This significant hazards consideration is applicable to each Relocated Specification identified in Enclosure 1 and Enclosure 2 of its submittal.

The basis for the determination that the proposed changes do not involve a significant hazards consideration is an evaluation of these changes against each of the criteria in 10 CFR 50.92(c). The criteria and conclusions of the evaluation are presented below:

1. Does the proposed change involve a significant increase in the probability or consequences of an accident previously evaluated?

Response: No.

The proposed changes relocate LCOs for structures, systems, components, or variables that do not meet the criteria of 10 CFR 50.36(c)(2)(ii) for inclusion in TS. The affected structures, systems, components, or variables are not assumed to be initiators of analyzed events and are not assumed to mitigate accident or transient events. The requirements and Surveillances for these affected structures, systems, components, or variables are proposed to be relocated from the TS to a licensee controlled document that is controlled by the provisions of 10 CFR 50.59. The proposed changes only reduce the level of regulatory control on these requirements. The level of regulatory control has no impact on the probability or consequences of an accident previously evaluated.

Therefore, the proposed changes do not involve a significant increase in the probability or consequences of an accident previously evaluated.

2. Does the proposed change create the possibility of a new or different kind of accident from any accident previously evaluated?

Response: No.

The proposed changes do not involve a physical alteration of the plant (no new or different type of equipment will be installed) or change in the methods governing normal plant operation. The proposed changes will not impose or eliminate any requirements, and adequate control of existing requirements will be maintained.

Therefore, the proposed changes do not create the possibility of a new or different kind of accident from any accident previously evaluated.

3. Does the proposed change involve a significant reduction in a margin of safety?

Response: No.

The proposed changes will not reduce a margin of safety because they have no significant effect on any safety analyses assumptions, as indicated by the fact that the requirements do not meet the 10 CFR 50.36 criteria for retention. In addition, the relocated requirements are moved without change, and any future changes to these requirements will be evaluated per 10 CFR 50.59.

NRC prior review and approval of changes to these relocated requirements, in accordance with 10 CFR 50.92, will no longer be required. There is no margin of safety attributed to NRC prior review and approval. However, the proposed changes are consistent with 10 CFR 50.36, which allows revising the TS to relocate these requirements and Surveillances to a licensee controlled document.

Therefore, the proposed changes do not involve a significant reduction in a margin of safety.

10 CFR 50.92 Evaluation for Detail Removed Changes

This generic category applies to changes that involve removing details out of the TS. These details are either supported by existing content in the TS Bases or the Final Safety Analysis Report (FSAR) or a commitment is made to add them to the TS Bases or FSAR. The removal of this information is considered to be less restrictive because it is no longer controlled by the TS change process. Typically, the information removed is descriptive in nature and its removal conforms to NUREG-1431 for format and content.

A specific DOC for each detail identified for removal is provided in Enclosure 1 of its submittal. This evaluation will be applicable to each of the changes identified with a “D” in the Enclosure 1 DOC and the associated Enclosure 2 markup of its submittal.

SNC proposes to amend the VEGP Units 3 and 4, Technical Specifications. SNC has evaluated each of the proposed TS changes identified as Detail Removed in accordance with the criteria set forth in 10 CFR 50.92, “Issuance of amendment,” and has determined that the proposed changes do not involve a significant hazards consideration. This significant hazards consideration is applicable to each Detail Removed change identified in Enclosure 1 and Enclosure 2 of its submittal.

The basis for the determination that the proposed changes do not involve a significant hazards consideration is an evaluation of these changes against each of the criteria in 10 CFR 50.92(c). The criteria and conclusions of the evaluation are presented below:

1. Does the proposed change involve a significant increase in the probability or consequences of an accident previously evaluated?

Response: No.

The proposed changes relocate certain details from the TS to other documents under regulatory control. The FSAR will be maintained in accordance with 10 CFR 50.59 and 10 CFR part 52, Appendix D, Section VIII. The TS Bases are subject to the change control provisions in the Administrative Controls Chapter of the TS. Since any changes to these documents will be evaluated, no significant increase in the probability or consequences of an accident previously evaluated will be allowed.

Therefore, the proposed changes do not involve a significant increase in the probability or consequences of an accident previously evaluated.

2. Does the proposed change create the possibility of a new or different kind of accident from any accident previously evaluated?

Response: No.

The proposed changes do not involve a physical alteration of the plant (no new or different type of equipment will be installed) or a change in the methods governing normal plant operations. The proposed changes will not impose or eliminate any requirements, and adequate control of the information will be maintained.

Therefore, the proposed changes do not create the possibility of a new or different kind of accident from any accident previously evaluated.

3. Does the proposed change involve a significant reduction in a margin of safety?

Response: No.

The proposed changes will not reduce a margin of safety because they have no effect on any assumption of the safety analyses. In addition, the details to be moved from the TS to other documents are not being changed. Since any future changes to these details will be evaluated under the applicable regulatory change control mechanism, no significant reduction in a margin of safety will be allowed. A significant reduction in a margin of safety is not associated with the elimination of the 10 CFR 50.90 requirement for NRC review and approval of future changes to the relocated details. Not including these details in the TS is consistent with NUREG-1431, issued by the NRC, which allows revising the TS to relocate these requirements to a licensee controlled document controlled by 10 CFR 50.59 and 10 CFR part 52, Appendix D, Section VIII, or other TS controlled or regulation controlled documents.

Therefore, the proposed changes do not involve a significant reduction in a margin of safety.

10 CFR 50.92 Evaluation for Less Restrictive Changes

This category consists of technical changes which revise existing requirements such that more restoration time is provided, fewer compensatory measures are needed, surveillance requirements are deleted, or less restrictive surveillance requirements are required. This would also include requirements which are deleted from the TS (not relocated to other documents) and other technical changes that do not fit a generic category. These changes are evaluated individually.

Technical changes to the TS requirements categorized as “Less Restrictive” are identified with an “L” and an individual number in the Enclosure 1 DOC and Enclosure 2 markup of its submittal.

SNC proposes to amend the VEGP Units 3 and 4, Technical Specifications. SNC has evaluated each of the proposed technical changes identified as “Less Restrictive” individually in accordance with the criteria set forth in 10 CFR 50.92 and has determined that the proposed changes do not involve a significant hazards consideration.

The basis for the determination that the proposed changes do not involve a significant hazards consideration is an evaluation of these changes against each of the criteria in 10 CFR 50.92(c). The criteria and conclusions of the evaluation are presented below.

L01 SNC proposes to amend TS 1.0, “Definitions,” by deleting the definition for Actuation Device Test. Reference to “overlap with the ACTUATION DEVICE TEST” that is cited in the definition of Actuation Logic Test is replaced with “overlap with the actuated device.”

Current Surveillance Requirement (SR) 3.3.2.7 (“Perform ACTUATION DEVICE TEST”) and SR 3.3.2.8 (“Perform ACTUATION DEVICE TEST for squib valves”) are deleted from current TS 3.3.2 and Table 3.3.2-1, Function 26, Engineered Safety Feature (ESF) Actuation. The equivalent requirement (using phrasing generally consistent with NUREG-1431) is included in individual Specifications for the actuated devices with the same 24 month Frequency as the deleted SRs. The impact of this reformatting is such that more appropriate, albeit less restrictive, actions would be applied when the associated device fails to meet the surveillance requirement. Also, current SR 3.3.2.9 is revised to eliminate the use of the Actuation Device Test defined term and replaced it with verification of actuation on an actual or simulated actuation signal.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The change involves reformatting and revising the presentation of existing surveillance requirements (with no change in required system or device function), such that more appropriate, albeit less restrictive, actions would be applied when the device fails to meet the surveillance requirement. Revised surveillance requirement presentation and compliance with TS actions are not an initiator to any accident previously evaluated. As a result, the probability of an accident previously evaluated is not affected.

The consequences of an accident as a result of the revised surveillance requirements and actions are no different than the consequences of the same accident during the existing ones. As a result, the consequences of an accident previously evaluated are not affected by this change.

The proposed change does not alter or prevent the ability of structures, systems, and components from performing their intended function to mitigate the consequences of an initiating event within the assumed acceptance limits. The proposed change does not affect the source term, containment isolation, or radiological release assumptions used in evaluating the radiological consequences of an accident previously evaluated.

Therefore, this change does not involve a significant increase in the probability or consequences of an accident previously evaluated.

2. Does the proposed change create the possibility of a new or different kind of accident from any accident previously evaluated?

Response: No.

The proposed change reformats TS requirements such that more appropriate, albeit less restrictive, actions would be applied when the device fails to meet the surveillance requirement. However, the proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While certain actions for inoperability of actuated devices are made less restrictive by eliminating entry into Engineered Safety Feature Actuation System (ESFAS) Actuation and Instrumentation inoperability actions, no action is made less restrictive than currently approved for any associated actuated device inoperability. As such, there is no significant reduction in a margin of safety.

L02 SNC proposes to amend current TS 5.6, “Reporting Requirements,” to delete TS 5.6.1, “Occupational Radiation Exposure Report,” and TS 5.6.4, “Monthly Operating Reports.” This change results in the renumbering of TS 5.6 sections, but does not revise technical or administrative requirements. SNC stated that the change is consistent with NRC approved Industry/TSTF Standard Technical Specification Change Traveler, TSTF-369, “Removal of Monthly Operating Report and Occupational Radiation Exposure Report,” Revision 1.

SNC has reviewed the proposed no significant hazards consideration determination published on June 23, 2004 (69 FR 35067) as part of the Consolidated Line Item Improvement Process (CLIIP) for TSTF-369, Revision 1. SNC has concluded that the proposed determination presented in the notice is applicable to VEGP Units 3 and 4 and the determination is hereby incorporated by reference to satisfy the requirements of 10 CFR 50.91(a).

L03 SNC proposes to amend TS to eliminate the use of the defined term “CORE ALTERATIONS” and incorporate changes reflected in TSTF-471-A.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change eliminates the use of the term “CORE ALTERATIONS,” all Required Actions requiring suspension of core alterations, and reference to core alterations in a surveillance requirement. With the exception of a fuel handling accident, core alterations are not an initiator of any accident previously evaluated. Those revised Specifications which protect the initial conditions of a fuel handling accident also require the suspension of movement of irradiated fuel assemblies. This Required Action protects the initial conditions of a fuel handling accident and, therefore, suspension of all other core alterations is not required. Suspension of core alterations, except fuel handling, does not provide mitigation of any accident previously evaluated. Therefore, eliminating the TS presentation of core alterations does not affect the initiators of the accidents previously evaluated and suspension of core alterations does not affect the mitigation of the accidents previously evaluated.

Therefore, the proposed change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis. Therefore, this change does not create the possibility of a new or different kind of accident from any accident previously evaluated.

3. Does the proposed change involve a significant reduction in a margin of safety?

Response: No.

Two events are postulated to occur in the plant conditions in which core alterations may be made: a fuel handling accident and a boron dilution incident. Suspending movement of irradiated fuel assemblies to prevent a fuel handling accident is retained as appropriate. As such, requiring the suspension of core alterations is an overly broad, redundant requirement that does not increase a margin of safety. Core alterations have no effect on a boron dilution incident. Core components are not involved in the creation or mitigation of a boron dilution incident and the shutdown margin (Mode 5) and boron concentration (Mode 6) limits are based on assuming the worst-case configuration of the core components.

Therefore, core alterations have no effect on a margin of safety related to a boron dilution incident. Therefore, there is no significant reduction in a margin of safety.

L04 SNC proposes to amend TS, Section 1.3, “Completion Times,” Example 1.3-3 to eliminate the Required Action A.1 and Required Action B.1 second Completion Times, and to replace the discussion regarding second Completion Times with a new discussion. SNC also proposes to delete the second Completion Times associated with current TS 3.8.5, “Distribution Systems—Operating,” Required Actions A.1, B.1, C.1, and D.1.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change eliminates certain Completion Times from the Technical Specifications. Completion Times are not an initiator to any accident previously evaluated. As a result, the probability of an accident previously evaluated is not affected. The consequences of an accident during the revised Completion Time are no different than the consequences of the same accident during the existing Completion Times. As a result, the consequences of an accident previously evaluated are not affected by this change. The proposed change does not alter or prevent the ability of structures, systems, and components (SSCs) from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change to delete the second Completion Time does not alter the manner in which safety limits, limiting safety system settings or limiting conditions for operation are determined. The safety analysis acceptance criteria are not affected by this change. The proposed change will not result in plant operation in a configuration outside of the design basis.

Therefore, there is no significant reduction in a margin of safety.

L05 SNC proposes to amend TS to eliminate LCO 3.0.8.

SNC has evaluated whether or not a significant hazards consideration is involved with the proposed amendment by focusing on the three standards set forth in 10 CFR 50.92, “Issuance of amendment,” as discussed below:

1. Does the proposed change involve a significant increase in the probability or consequences of an accident previously evaluated?

Response: No.

Technical Specification actions to restore equipment to Operable and to monitor plant parameters are not initiators to any analyzed accident sequence. Operation in accordance with the proposed TS continues to ensure that plant equipment is capable of performing mitigative functions assumed by the accident analysis.

The proposed TS change does not involve any changes to SSCs and does not alter the method of operation or control of SSCs as described in the FSAR. The current assumptions in the safety analysis regarding accident initiators and mitigation of accidents are unaffected by this change. No additional failure modes or mechanisms are being introduced and the likelihood of previously analyzed failures remains unchanged.

The integrity of fission product barriers, plant configuration, and operating procedures as described in the FSAR will not be affected by this change. Therefore, the consequences of previously analyzed accidents will not increase because of this change.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change does not alter the requirement to restore compliance with TS and to monitor plant parameter status for appropriate manual actions. Operation in accordance with the proposed TS ensures that the plant response to analyzed events will continue to provide the margins of safety assumed by the analysis. Appropriate monitoring and maintenance, consistent with industry standards, will continue to be performed.

As such, there is no functional change to the requirements and therefore, there is no significant reduction in a margin of safety.

L06 SNC proposes to amend TS 3.2.5 to eliminate the increased frequency of verifying core power distribution parameters when the On-line Power Distribution Monitoring System (OPDMS) alarms are inoperable. This change retains the normal 24-hour Frequency and eliminates the 12-hour Frequency when OPDMS alarms are inoperable.

SNC has evaluated whether or not a significant hazards consideration is involved with the proposed amendment by focusing on the three standards set forth in 10 CFR 50.92, “Issuance of amendment,” as discussed below:

1. Does the proposed change involve a significant increase in the probability or consequences of an accident previously evaluated?

Response: No.

A TS frequency for monitoring plant parameters is not an initiator to any accident sequence analyzed in the FSAR. Operation in accordance with the proposed TS continues to ensure that initial conditions assumed in the accident analysis are maintained.

The proposed change does not involve a physical alteration of the plant as described in the FSAR and does not alter the method of operation or control of equipment as described in the FSAR. The current assumptions in the safety analysis regarding accident initiators and mitigation of accidents are unaffected by this change. Plant equipment remains capable of performing mitigative functions assumed by the accident analysis. No additional failure modes or mechanisms are being introduced and the likelihood of previously analyzed failures remains unchanged. The integrity of fission product barriers, plant configuration, and operating procedures as described in the FSAR will not be affected by this change. Therefore, the consequences of previously analyzed accidents will not increase because of this change.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change is acceptable because the OPDMS alarms do not impact a margin of safety. Operation in accordance with the proposed TS ensures that the plant response to analyzed events will continue to provide the margins of safety assumed by the analysis. Appropriate monitoring and maintenance, consistent with industry standards, will continue to be performed.

As such, there is no functional change to the requirements and therefore, there is no significant reduction in a margin of safety.

L07 SNC proposes to amend the TS 3.3.1, 3.3.4, and 3.4.5 by replacing the TS Required Actions requiring the reactor trip breakers (RTBs) to be opened with two Required Actions: one Required Action states “Initiate action to fully insert all rods,” and the other Required Action states “Place the Plant Control System in a condition incapable of rod withdrawal.” For consistency, TS Applicabilities associated with RTB position are also being revised. Applicabilities including “RTBs closed” are revised to state “Plant Control System capable of rod withdrawal or one or more rods not fully inserted.” Conversely, Applicabilities including “RTBs open” are revised to state “With Plant Control System incapable of rod withdrawal and all rods fully inserted.”

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant as described in the FSAR and does not alter the method of operation or control of equipment as described in the FSAR. The current assumptions in the safety analysis regarding accident initiators and mitigation of accidents are unaffected by this change. Plant equipment remains capable of performing mitigative functions assumed by the accident analysis. However, the change involves allowing methods of compliance other than establishing or verifying RTB open or closed status to determine the condition of the capability of the Plant Control System to allow or inhibit rod withdrawal and the status of all rods inserted or not. The method of establishing this status is not an accident initiator nor involved with mitigation of the consequences of an accident.

Therefore, this change does not involve a significant increase in the probability or consequences of an accident previously evaluated.

2. Does the proposed change create the possibility of a new or different kind of accident from any accident previously evaluated?

Response: No.

The proposed change does allow methods of compliance other than establishing or verifying RTB open or closed status; however, RTB open or closed status will continue to be one appropriate and viable method of establishing and verifying applicable plant conditions. The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While certain interlocks depend on RTB open or close status, these interlocks and the association with RTB is not revised. When those interlocks are required, the position of RTBs will continue to dictate the appropriate protection system response. Allowing alternate methods of establishing or verifying the condition of the capability of the Plant Control System to allow or inhibit rod withdrawal and the status of all rods inserted or not, does not impact any safety analysis assumption or plant response to an analyzed event.

As such, there is no functional change to the required plant conditions, and therefore, there is no significant reduction in a margin of safety.

L08 SNC proposes to amend the TS by deleting current TS 3.3.1, Reactor Trip System (RTS) Instrumentation, Required Actions D.1.1, D.2.1, and D.2.2 applicable to inoperable Power Range Neutron Flux channels.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. Overly restrictive and inappropriate Required Actions are being deleted since adequate compensatory measures already address the potential impact on radial power monitoring and the appropriate compensatory and mitigative actions in the event the RTS function is degraded for the Power Range Neutron Flux function. Additionally, the Surveillances for TS 3.2.4, Quadrant Power Tilt Ratio (QPTR), address the requirements unique to loss of Power Range Neutron Flux monitoring for QPTR. Eliminating overly restrictive and inappropriate Required Actions does not impact an accident initiator or impact mitigation of the consequences of any accident.

Therefore, this change does not involve a significant increase in the probability or consequences of an accident previously evaluated.

2. Does the proposed change create the possibility of a new or different kind of accident from any accident previously evaluated?

Response: No.

The proposed change eliminates overly restrictive and inappropriate Required Actions. However, the proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change will not reduce a margin of safety because it has no such effect on any assumption of the safety analyses. While certain actions for inoperability of actuated devices are made less restrictive by eliminating a potentially unnecessary power reduction, and actions that could not be performed, no action is made less restrictive than currently approved for similar channel inoperability.

Therefore, there is no significant reduction in a margin of safety.

L09 SNC proposes to amend current TS 3.3.1, “Reactor Trip System (RTS) Instrumentation,” Source Range Neutron Flux Actions in Mode 2 for one and two inoperable channels. The change allows for placing inoperable channels in bypass and/or trip thereby allowing continued operation.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. However, the change involves providing actions allowing bypassing and/or tripping one or two inoperable Source Range Neutron Flux channels. Required Actions are not an accident initiator nor credited with mitigation of the consequences of an accident. The actions continue to assure operation consistent with the design provisions and within the assumptions of the safety analysis.

Therefore, this change does not involve a significant increase in the probability or consequences of an accident previously evaluated.

2. Does the proposed change create the possibility of a new or different kind of accident from any accident previously evaluated?

Response: No.

The proposed change involves certain less restrictive actions; however, these actions are consistent with the design provisions and with currently approved actions for other inoperable automatic RTS actuation functions. The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change will not reduce a margin of safety because it has no such effect on any assumption of the safety analyses. While the change involves less restrictive actions, these actions are consistent with the design provisions and with currently approved actions for other inoperable automatic RTS actuation Functions. These actions do not result in any conflict with the assumptions in the safety analyses and licensing basis.

As such, there is no significant reduction in a margin of safety.

L10 SNC proposes to amend the TS, as follows:

• TS 3.1.8 “PHYSICS TESTS Exceptions—MODE 2,” is revised to delete the listing of current Function 16.b for TS 3.3.1, “Reactor Trip System (RTS) Instrumentation”;

• Current TS 3.3.1, “Reactor Trip System (RTS) Instrumentation,” Table 3.3.1-1, Function 16, Reactor Trip System Interlocks requirements are removed;

• Current TS 3.3.1 Action M is deleted;

• Current TS 3.3.2, “Engineered Safety Feature Actuation System (ESFAS) Instrumentation,” Table 3.3.2-1, Function 18, ESFAS Interlocks (with the exception of Table 3.3.2-1, Function 18.b, Reactor Trip, P-4) requirements are removed; and

• Current TS 3.3.2 Action J is deleted.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The TS RTS and ESFAS actuation functions explicitly retained in TS are those assumed to actuate in the safety analysis. The associated interlocks are necessary support functions for Operability of these TS required RTS and ESFAS functions. The removal of explicit interlock functions does not impact the design-required actuation function. Plant equipment remains capable of performing preventative and mitigative functions assumed by the accident analysis. However, the change involves removing explicit requirements, including actions that lead to reestablishing operability of the assumed actuation functions; implicitly these requirements are maintained and the actions remain viable for reestablishing operability. Since the requirements for the safety function Operability remains unchanged, removing the explicit presentation of detail is not an accident initiator nor involved with mitigation of the consequences of an accident.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While the presentation of TS RTS and ESFAS actuation functions moves the associated interlocks from explicit treatment to becoming an implicit support system feature, the function continues to be required as necessary to support associated TS actuation functions. In doing so, certain actions for inoperability of interlocks are made more restrictive by now entering actions specific to the supported function's inoperability which have shorter Completion Times. However those actions are consistent with those currently approved for inoperability of that function.

As such, there is no significant reduction in a margin of safety.

L11 SNC proposes to amend TS 3.3.1, “Reactor Trip System (RTS) Instrumentation,” to delete:

• Current Table 3.3.1-1, Function 5, Source Range Neutron Flux High Setpoint, third row for that function including Applicability set “3(e),4(e),5(e)” and associated references to Required Channel, Condition, and Surveillance Requirements;

• Current Table 3.3.1-1, Footnote (e); and

• Current Action R.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The change involves removing certain actions that apply during inoperability of all four source range channels to provide indication. However, requirements and associated Required Actions continue to apply to source range channels in separate TS. The Required Actions removed are not accident initiators nor involved with mitigation of the consequences of an accident. The remaining requirements and actions continue to assure operation within the assumptions of the safety analysis.

Therefore, this change does not involve a significant increase in the probability or consequences of an accident previously evaluated.

2. Does the proposed change create the possibility of a new or different kind of accident from any accident previously evaluated?

Response: No.

The proposed change involves removing certain actions for inoperability of all four source range channels; however, this change does not result in any conflict with the assumptions in the safety analyses and licensing basis. The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced.

Therefore, this change does not create the possibility of a new or different kind of accident from any accident previously evaluated.

3. Does the proposed change involve a significant reduction in a margin of safety?

Response: No.

Margin of safety is established through equipment design, operating parameters, and the setpoints at which automatic actions are initiated. The proposed change will not reduce a margin of safety because it has no such effect on any assumption of the safety analyses. While certain actions for inoperability of all four source range channels to indicate are removed, requirements and associated Required Actions continue to apply to source range channels in a separate TS. When all source range monitoring channels are inoperable, the remaining actions continue to assure operation within safety analysis assumptions. These actions are consistent with the actions presented in the NUREG-1431.

As such, there is no significant reduction in a margin of safety.

L12 SNC proposes to amend current TS 3.3.2, “Engineered Safety Feature Actuation System (ESFAS) Instrumentation,” Actions related to functions that result in valve isolation actuations. Current TS 3.3.2 Actions P, Q, R, S, T, and Z, are revised to “Declare affected isolation valve(s) inoperable.” Additionally, the following current Table 3.3.2-1 Applicability Footnotes are deleted:

• (e) Not applicable for valve isolation functions whose associated flow path is isolated;

• (h) Not applicable if all main steam isolation valves (MSIVs) are closed; and

• (i) Not applicable when the startup feedwater flow paths are isolated.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The less restrictive Required Actions are acceptable based on the fact that the new actions are the appropriate actions for the actuated equipment. Required Actions are not an accident initiator nor credited with mitigation of the consequences of an accident. The actions continue to assure operation within the assumptions of the safety analysis and are consistent with approved actions for the actuated equipment.

Therefore, this change does not involve a significant increase in the probability or consequences of an accident previously evaluated.

2. Does the proposed change create the possibility of a new or different kind of accident from any accident previously evaluated?

Response: No.

The proposed change involves certain less restrictive actions; however, the actions continue to assure operation within the assumptions of the safety analysis and are consistent with approved actions for the actuated equipment. The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While the change involves less restrictive actions, the actions are consistent with approved actions for the actuated equipment. These actions do not result in any conflict with the assumptions in the safety analyses and licensing basis.

As such, there is no significant reduction in a margin of safety.

L13 SNC proposes to amend current TS 3.3.3, “Post Accident Monitoring (PAM) Instrumentation,” as follows:

• Function 12 is revised from “Passive Residual Heat Removal (PRHR) Flow and PRHR Outlet Temperature,” to “Passive Residual Heat Removal (PRHR) Heat Removal.” In addition, the Required Channels/Divisions column is revised from “2 flow & 1 temperature,” to “2.”

• Function 17 is revised from “Passive Containment Cooling System (PCS) Storage Tank Level and PCS Flow,” to “Passive Containment Cooling System (PCS) Heat Removal.” In addition, the Required Channels/Divisions column is revised from “2 level & 1 flow,” to “2.”

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change reduces the number of required Function 12 and Function 17 channels from three to two. Requiring the minimum of two redundant channels is consistent with NUREG-1431 requirements for meeting Regulatory Guide (RG) 1.97 PAM redundancy requirements. The change also relocates the details of the specific channels designed to satisfy the PAM requirements to the associated Bases. The proposed change does not involve a physical alteration of the plant or a change in the methods governing normal plant operations. PAM functions are not initiators of analyzed events and therefore the revised requirements do not result in operations that significantly increase the probability of initiating an analyzed event. The PAM function affected by this change is designed to accommodate single failure to support post-accident monitoring. The change reduces TS requirements on excess required channels; however, single failure redundancy continues to be required. Thus, the proposed change does not alter assumptions relative to mitigation of an accident or transient event. The less restrictive requirements continue to ensure process variables, structures, systems, and components are maintained consistent with the safety analyses and licensing basis.

The TS Bases will be maintained in accordance with the change control provisions of the TS Bases Control Program described in TS 5.5.6. Because any change to the TS Bases will be evaluated, no significant increase in the probability or consequences of an accident previously evaluated will be allowed.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. In addition, the details being moved from the current TS to the TS Bases are not being changed. NRC prior review and approval of changes to these relocated requirements, in accordance with 10 CFR 50.92, will no longer be required. Future change to these details will be evaluated under the applicable regulatory change control mechanism. There is no margin of safety attributed to NRC prior review and approval; therefore, there is no significant reduction in a margin of safety.

L14 SNC proposes to amend current TS 3.3.5, “Diverse Actuation System (DAS) Manual Controls,” Table 3.3.5-1, “DAS Manual Controls,” footnote b; current TS 3.6.7, “Passive Containment Cooling System (PCS)—Shutdown,” Applicability; and current TS 3.7.9, “Fuel Storage Pool Makeup Water Sources,” LCO Notes 1, 2, and 3; Applicability, Surveillance Requirement (SR) 3.7.9.1 Note, SR 3.7.9.2 Note, SR 3.7.9.3 Note, and SR 3.7.9.4 Note by deleting “calculated” with respect to decay heat.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The proposed change provides less stringent TS requirements for the facility by not expressly specifying the method of determining the decay heat value. These less stringent requirements do not result in operations that significantly increase the probability of initiating an analyzed event, and do not alter assumptions relative to mitigation of an accident or transient event. The less restrictive requirements continue to ensure process variables, structures, systems, and components are maintained consistent with the safety analyses and licensing basis.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. Eliminating the imposition of single method of determining the decay heat value has no effect on or a margin of plant safety. “Calculating” the decay heat value remains a viable option. The change maintains requirements within the safety analyses and licensing basis. As such, there is no technical change to the requirements and therefore, there is no significant reduction in a margin of safety.

L15 SNC proposes to amend TS 3.4.8, “Minimum [Reactor Coolant System] RCS Flow,” SR 3.4.8.1 from “Verify that at least one [Reactor Coolant Pump] RCP is in operation at ≥ 10% rated speed or equivalent,” to “Verify that at least one RCP is in operation with total flow through the core ≥ 3,000 gpm.”

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The change involves revising the acceptance criteria of an existing surveillance requirement with no change in required system or device function. Surveillance acceptance criteria are not accident initiators nor involved with mitigation of the consequences of any accident. The proposed acceptance criteria ensure that the applicable analysis input assumptions are preserved. Therefore, this change does not involve a significant increase in the probability or consequences of an accident previously evaluated.

2. Does the proposed change create the possibility of a new or different kind of accident from any accident previously evaluated?

Response: No.

The proposed change revises the acceptance criteria of an existing surveillance requirement. However, the proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While the surveillance requirement acceptance criteria is made less restrictive by removal of design margin that accounts for minimizing stress and wear, and increasing equipment life, and the expected operating limit on minimum RCP speed, this margin is more appropriately maintained in the design and in operating and surveillance procedures.

Therefore, there is no significant reduction in a margin of safety.

L16 SNC proposes to amend current TS 3.4.10, “RCS Specific Activity,” Actions by deleting Required Action B.1, which requires “Perform SR 3.4.10.2,” within 4 hours.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The proposed change provides less stringent TS actions for the facility. However, the less restrictive requirements continue to ensure process variables, structures, systems, and components are maintained consistent with the safety analyses and licensing basis. The performance of SR 3.4.10.2 is not related to an accident initiator nor credited with mitigation of the consequences of an accident.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. The change maintains requirements within the safety analyses and licensing basis. The result of performing the additional surveillance does not provide any additional margin of safety; as such, eliminating the Required Action for performing the additional surveillance does not result in a significant reduction in a margin of safety.

L17 SNC proposes to amend TS as follows:

1. Current TS 3.5.2, “Core Makeup Tanks (CMTs)—Operating,” Condition D is revised from “One CMT inoperable due to presence of noncondensible gases in one high point vent,” to “One CMT inlet line with noncondensible gas volume not within limit.”

2. Current TS 3.5.2, Required Action D.1 is revised from “Vent noncondensible gases,” to “Restore CMT inlet line noncondensible gas volume to within limit.”

3. Current TS 3.5.2, SR 3.5.2.4 is revised from “Verify the volume of noncondensible gases in each CMT inlet line has not caused the high point water level to drop below the sensor,” to “Verify the volume of noncondensible gases in each CMT inlet line is within limit.”

4. Current TS 3.5.4, “Passive Residual Heat Removal Heat Exchanger (PRHR HX)—Operating,” Condition C is revised from “Presence of noncondensible gases in the high point vent,” to “PRHR HX inlet line noncondensible gas volume not within limit.”

5. Current TS 3.5.4, Required Action C.1 is revised from “Vent noncondensible gases,” to “Restore PRHR HX inlet line noncondensible gas volume to within limit.”

6. Current TS 3.5.4, SR 3.5.4.3 is revised from “Verify the volume of noncondensible gases in the PRHR HX inlet line has not caused the high point water level to drop below the sensor,” to “Verify the volume of noncondensible gases in the PRHR HX inlet line is within limit.”

7. Current TS 3.5.5, “Passive Residual Heat Removal Heat Exchanger (PRHR HX)—Shutdown, Reactor Coolant System (RCS) Intact,” Condition C is revised from “Presence of noncondensible gases in the high point vent,” to “PRHR HX inlet line noncondensible gas volume not within limit.”

8. Current TS 3.5.5, Required Action C.1 is revised from “Vent noncondensible gases,” to “Restore PRHR HX inlet line noncondensible gas volume to within limit.”

9. Current TS 3.5.6, “In-containment Refueling Water Storage Tank (IRWST)—Operating,” Condition B is revised from “One IRWST injection line inoperable due to presence of noncondensible gases in one high point vent,” to “One IRWST injection flow path with noncondensible gas volume in one squib valve outlet line pipe stub not within limit.”

10. Current TS 3.5.6, Required Action B.1 is revised from “Vent noncondensible gases,” to “Restore noncondensible gas volume in squib valve outlet line pipe stub to within limit.”

11. Current TS 3.5.6, Condition C is revised from “One IRWST injection line inoperable due to presence of noncondensible gases in both high point vents,” to “One IRWST injection flow path with noncondensible gas volume in both squib valve outlet line pipe stubs not within limit.”

12. Current TS 3.5.6, Required Action C.1 is revised from “Vent noncondensible gases from one high point vent,” to “Restore one squib valve outlet line pipe stub noncondensible gas volume to within limit.”

13. Current TS 3.5.6, SR 3.5.6.3 is revised from “Verify the volume of noncondensible gases in each of the four IRWST injection squib valve outlet line pipe stubs has not caused the high-point water level to drop below the sensor,” to “Verify the volume of noncondensible gases in each of the four IRWST injection squib valve outlet line pipe stubs is within limit.”

14. Current TS 3.5.7, “In-containment Refueling Water Storage Tank (IRWST)—Shutdown, MODE 5,” Condition B is revised from “Required IRWST injection line inoperable due to presence of noncondensible gases in one high point vent,” to “Required IRWST injection flow path with noncondensible gas volume in one squib valve outlet line pipe stub not within limit.”

15. Current TS 3.5.7, Required Action B.1 is revised from “Vent noncondensible gases,” to “Restore noncondensible gas volume in squib valve outlet line pipe stub to within limit.”

16. Current TS 3.5.7, Condition C is revised from “Required IRWST injection line inoperable due to presence of noncondensible gases in both high point vents,” to “Required IRWST injection flow path with noncondensible gas volume in both squib valve outlet line pipe stubs not within limit.”

17. Current TS 3.5.7, Required Action C.1 is revised from “Vent noncondensible gases from one high point vent,” to “Restore one squib valve outlet line pipe stub noncondensible gas volume to within limit.”

18. TS 3.5.8, “In-containment Refueling Water Storage Tank (IRWST)—Shutdown, MODE 6,” Condition B is revised from “Required IRWST injection line inoperable due to presence of noncondensible gases in one high point vent,” to “Required IRWST injection flow path with noncondensible gas volume in one squib valve outlet line pipe stub not within limit.”

19. Current TS 3.5.8, Required Action B.1 is revised from “Vent noncondensible gases,” to “Restore noncondensible gas volume in squib valve outlet line pipe stub to within limit.”

20. Current TS 3.5.8, Condition C is revised from “Required IRWST injection line inoperable due to presence of noncondensible gases in both high point vents,” to “Required IRWST injection flow path with noncondensible gas volume in both squib valve outlet line pipe stubs not within limit.”

21. Current TS 3.5.8, Required Action C.1 is revised from “Vent noncondensible gases from one high point vent,” to “Restore one squib valve outlet line pipe stub noncondensible gas volume to within limit.”

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The proposed change provides less stringent TS requirements by not expressly specifying the method of determining or restoring the noncondensible gas volume that can adversely affect the associated flow path; however, the requirement that noncondensible gas volume be within limit is not changed. These less stringent requirements do not result in operations that significantly increase the probability of initiating an analyzed event, and do not alter assumptions relative to mitigation of an accident or transient event. The less restrictive requirements continue to ensure process variables, structures, systems, and components are maintained consistent with the safety analyses and licensing basis.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. The amended actions and surveillances continue to assure that noncondensible gas volumes are maintained and restored to within acceptable limits. The change maintains requirements within the safety analyses and licensing basis.

As such, there is no technical change to the requirements and therefore, there is no significant reduction in a margin of safety.

L18 SNC proposes to amend current TS 3.6.8, “Containment Penetrations,” LCO 3.6.8.d.2 to allow the penetration flow path to be open provided it can be closed prior to steaming into the containment. In conjunction, current SR 3.6.8.3 as well as the corresponding containment Isolation function required in current TS 3.3.2, “Engineered Safety Feature Actuation System (ESFAS) Instrumentation,” Table 3.3.2-1 Function 3.a for Modes 5 and 6, are removed. This removes requirements for Operable containment isolation signals in Modes 5 and 6, allowing manual operator actions to affect any required isolation prior to steaming into the containment.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change would remove requirements for Operable containment isolation signals in Modes 5 and 6, allowing manual operator action to effect any required isolation. The design provisions for instrumented closure signals are unaffected. The isolation status of the penetration flow path is not an initiator to any accident previously evaluated. As a result, the probability of an accident previously evaluated is not affected. The consequences of an accident with the valves open and capable of being closed prior to steaming into the containment are no different than the consequences of the same accident with the current requirements. The valves are currently allowed to be open, provided they can be isolated. The accident analysis assumes cooling water inventory is not lost in the event of an accident. Thus, closing the valves prior to steaming into the containment will ensure this assumption is met. As a result, the consequences of an accident previously evaluated are not affected by this change. The proposed change does not alter or prevent the ability of structures, systems, and components (SSCs) from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures.

The proposed change is consistent with the safety analysis assumptions and resultant consequences.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change to remove requirements for Operable containment isolation signals in Modes 5 and 6, and allowing manual operator action to isolate the purge valve penetration flow path prior to steaming into the containment, does not alter the manner in which safety limits, limiting safety system settings or limiting conditions for operation are determined. The safety analysis acceptance criteria are not affected by this change. The proposed change will not result in plant operation in a configuration outside of the design basis.

As such, there is no technical change to the requirements and therefore, there is no significant reduction in a margin of safety.

L19 SNC proposes to amend current TS 3.9.6 “pH Adjustment,” LCO and current SR 3.9.6.1 trisodium phosphate (TSP) requirement from the volume requirement of 560 ft³ to a weight requirement of 26,460 lbs. In addition, due to this change, Condition A and Required Action A.1 is changed to refer to “weight” in lieu of “volume.”

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change allows for a lesser volume over time consistent with expected compaction and agglomeration. While the total weight will remain constant and sufficient to assure safety analysis assumptions are met, the unintended requirement to maintain volume > 560 ft³, even after compaction and agglomeration is made less restrictive. The TSP is not an initiator to any accident previously evaluated. As a result, the probability of an accident previously evaluated is not affected. The consequences of an accident with the changed TSP weight limit are no different than the consequences of the same accident with the current TSP limit. The accident analysis assumes a minimum of 26,460 lbs of TSP, and this value is being maintained in the TS. The assumed pH of 7.0 will be maintained using the proposed weight of TSP. This pH will continue to augment the retention of elemental iodine in the containment water, and thus reduce the iodine available to leak to the environment. As a result, the consequences of an accident previously evaluated are not affected by this change. The proposed change does not alter or prevent the ability of SSCs from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change to allow for a lesser volume over time consistent with expected compaction and agglomeration, while maintaining the total weight to assure safety analysis assumptions are met, does not alter the manner in which safety limits, limiting safety system settings or limiting conditions for operation are determined. The safety analysis acceptance criteria are not affected by this change. The proposed change will not result in plant operation in a configuration outside of the design basis.

As such, there is no technical change to the requirements and therefore, there is no significant reduction in a margin of safety.

L20 SNC proposes to amend current TS 3.7.2, “Main Steam Isolation Valves (MSIVs),” Condition D Note to allow separate Condition entry due to any inoperable valve covered by the LCO, not just the MSIVs.

SNC has evaluated whether or not a significant hazards consideration is involved with the proposed amendment by focusing on the three standards set forth in 10 CFR 50.92, “Issuance of amendment,” as discussed below:

1. Does the proposed change involve a significant increase in the probability or consequences of an accident previously evaluated?

Response: No.

The proposed change allows a separate Condition entry for each affected flow path. The failure of the main steam line flow path covered by the LCO to close is not an initiator to any accident previously evaluated. As a result, the probability of an accident previously evaluated is not affected. The consequences of an accident are not affected since the inoperability in the flow path is addressed to assure affected flow paths are isolated as assumed in the accident analysis. As a result, the consequences of an accident previously evaluated are not affected by this change. The proposed change does not alter or prevent the ability of structures, systems, and components from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change to allow a separate Condition entry for each affected flow path does not alter the manner in which safety limits, limiting safety system settings or limiting conditions for operation are determined. The safety analysis acceptance criteria are not affected by this change. The proposed change will not result in plant operation in a configuration outside of the design basis.

As such, there is no technical change to the requirements and therefore, there is no significant reduction in a margin of safety.

L21 SNC proposes to amend TS 3.8.1, “[Direct Current] DC Sources—Operating,” by deleting SR 3.8.1.3 Note 2.

SNC has evaluated whether or not a significant hazards consideration is involved with the proposed amendment by focusing on the three standards set forth in 10 CFR 50.92, “Issuance of amendment,” as discussed below:

1. Does the proposed change involve a significant increase in the probability or consequences of an accident previously evaluated?

Response: No.

The Class 1E DC electrical power system, including associated battery chargers, is not an initiator to any accident sequence analyzed in the FSAR. Operation in accordance with the proposed TS ensures that the Class 1E DC electrical power system is capable of performing its function as described in the FSAR, therefore the mitigative functions supported by the Class 1E DC electrical power system will continue to provide the protection assumed by the accident analysis.

The proposed TS change does not involve any changes to SSCs and does not alter the method of operation or control of SSCs as described in the FSAR. The current assumptions in the safety analysis regarding accident initiators and mitigation of accidents are unaffected by this change. No additional failure modes or mechanisms are being introduced and the likelihood of previously analyzed failures remains unchanged. The integrity of fission product barriers, plant configuration, and operating procedures as described in the FSAR will not be affected by this change. Therefore, the consequences of previously analyzed accidents will not increase because of this change.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change is acceptable because the operability of the Class 1E DC electrical power system is unaffected, there is no detrimental impact on any equipment design parameter, and the plant will still be required to operate within assumed conditions. Operation in accordance with the proposed TS ensures that the Class 1E DC electrical power system is capable of performing its function as described in the FSAR; therefore, the support of the Class 1E DC electrical power system to the plant response to analyzed events will continue to provide the margins of safety assumed by the analysis. Appropriate monitoring and maintenance, consistent with industry standards, will continue to be performed.

As such, there is no technical change to the requirements and therefore, there is no significant reduction in a margin of safety.

L22 SNC proposes to amend current TS 3.8.2, “DC Sources—Shutdown,” by adding a new Condition A to address inoperable battery chargers.

SNC has evaluated whether or not a significant hazards consideration is involved with the proposed amendment by focusing on the three standards set forth in 10 CFR 50.92, “Issuance of amendment,” as discussed below:

1. Does the proposed change involve a significant increase in the probability or consequences of an accident previously evaluated?

Response: No.

The Class 1E DC electrical power system, including associated battery chargers, is not an initiator to any accident sequence analyzed in the FSAR. Operation in accordance with the proposed TS ensures that the Class 1E DC electrical power system is capable of performing its function as described in the FSAR, therefore the mitigative functions supported by the Class 1E DC electrical power system will continue to provide the protection assumed by the accident analysis.

The proposed change does not involve any changes to SSCs and does not alter the method of operation or control of SSCs as described in the FSAR. The current assumptions in the safety analysis regarding accident initiators and mitigation of accidents are unaffected by this change. No additional failure modes or mechanisms are being introduced and the likelihood of previously analyzed failures remains unchanged.

The integrity of fission product barriers, plant configuration, and operating procedures as described in the FSAR will not be affected by this change. Therefore, the consequences of previously analyzed accidents will not increase because of this change.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change is acceptable because the Operability of the Class 1E DC electrical power system is unaffected, there is no detrimental impact on any equipment design parameter, and the plant will still be required to operate within assumed conditions. Operation in accordance with the proposed TS ensures that the Class 1E DC electrical power system is capable of performing its function as described in the FSAR; therefore, the support of the Class 1E DC electrical power system to the plant response to analyzed events will continue to provide the margins of safety assumed by the analysis. Appropriate monitoring and maintenance, consistent with industry standards, will continue to be performed.

As such, there is no technical change to the requirements and therefore, there is no significant reduction in a margin of safety.

L23 SNC proposes to amend current TS 5.5.2, “Radioactive Effluent Control Program,” to state that the provisions of SR 3.0.2 and SR 3.0.3 are applicable to the Radioactive Effluents Control Program surveillance frequency.

SNC has evaluated whether or not a significant hazards consideration is involved with the proposed amendment by focusing on the three standards set forth in 10 CFR 50.92, “Issuance of amendment,” as discussed below:

1. Does the proposed change involve a significant increase in the probability or consequences of an accident previously evaluated?

Response: No.

A TS frequency for the determination of cumulative and projected dose contributions from radioactive effluents is not an initiator to any accident sequence analyzed in the FSAR. Operation in accordance with the proposed TS continues to ensure that initial conditions assumed in the accident analysis are maintained. The proposed change does not involve a modification to the physical configuration of the plant or change in the methods governing normal plant operation. The proposed change will not impose any new or different requirements or introduce a new accident initiator, accident precursor, or malfunction mechanism.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change, applying the 25% extension to the frequency of performing the monthly cumulative dose and projected dose calculations, will have no effect on the plant response to analyzed events and with therefore not impact a margin of safety. Operation in accordance with the proposed TS ensures that the plant response to analyzed events will continue to provide the margins of safety assumed by the analysis. Appropriate monitoring and maintenance, consistent with industry standards, will continue to be performed.

As such, there is no functional change to the requirements and therefore, there is no significant reduction in a margin of safety.

L24 SNC proposes to amend current TS 5.5.3, “Inservice Testing Program,” paragraph b from “The provisions of SR 3.0.2 are applicable to the above required Frequencies for performing inservice testing activities,” to “The provisions of SR 3.0.2 are applicable to the above required Frequencies and other normal and accelerated Frequencies specified as 2 years or less in the Inservice Testing Program for performing inservice testing activities.”

SNC has evaluated whether or not a significant hazards consideration is involved with the proposed amendment by focusing on the three standards set forth in 10 CFR 50.92, “Issuance of amendment,” as discussed below:

1. Does the proposed change involve a significant increase in the probability or consequences of an accident previously evaluated?

Response: No.

The frequency for inservice testing is not an initiator to any accident sequence analyzed in the FSAR, nor is it associated with any mitigative actions to reduce consequences. Operation in accordance with the proposed TS continues to ensure that initial conditions accident mitigative features assumed in the accident analysis are maintained. The proposed change does not involve a modification to the physical configuration of the plant or change in the methods governing normal plant operation. The proposed change will not impose any new or different requirements or introduce a new accident initiator, accident precursor, or malfunction mechanism.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

The proposed change, applying the 25% extension to certain frequencies for performing inservice testing, does not significantly degrade the reliability that results from performing the Surveillance at its specified Frequency. This is based on the recognition that the most probable result of any particular surveillance being performed is the verification of conformance with the SRs. As such, there is no technical change to the requirements and therefore, there is no significant reduction in a margin of safety. Margin of safety is established through equipment design, operating parameters, and the setpoints at which automatic actions are initiated. Operation in accordance with the proposed TS ensures that the plant response to analyzed events will continue to provide the margins of safety assumed by the analysis. Appropriate monitoring and maintenance, consistent with industry standards, will continue to be performed. As such, there is no functional change to the requirements and therefore, there is no significant reduction in a margin of safety.

The NRC staff has reviewed the licensee's analysis and, based on this review, it appears that the three standards of 10 CFR 50.92(c) are satisfied.

Therefore, the NRC staff proposes to determine that the amendment request involves no significant hazards consideration.

Attorney for licensee: Mr. M. Stanford Blanton, Balch & Bingham LLP, 1710 Sixth Avenue North, Birmingham, AL 35203-2015.

NRC Branch Chief: Mark E. Tonacci.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Entergy Operations, Inc., System Energy Resources, Inc., South Mississippi Electric Power Association, and Entergy Mississippi, Inc., Docket No. 50-416, Grand Gulf Nuclear Station, Unit 1, Claiborne County, Mississippi

Date of application for amendment: January 23, 2012, as supplemented by letter dated March 21, 2012.

Brief description of amendment: The amendment revised Technical Specification (TS) 3.1.7, “Standby Liquid Control (SLC) System.” The license amendment request (LAR) reflects the enrichment of the Boron-10 (B-10) isotope in the sodium pentaborate (SPB) solution, which is the credited neutron absorber. Increasing the enrichment of the B-10 isotope in the SPB solution effectively increases the available negative reactivity inserted by the SLC system without having to increase the system's storage capacity. In addition, changes to the SLC system increase the operating temperature range and decrease the solution volume. TS 3.1.7 has been reformatted so that Figures 3.1.7-1 and 3.1.7-2 can be deleted and replaced with various new action conditions and surveillance requirements. These changes to TS 3.1.7 were originally included as part of the GGNS Extended Power Uprate (EPU) LAR dated September 8, 2010. Due to delays in obtaining approval of the EPU LAR and the need for the SLC system changes to support operation with the Cycle 19 core design, Entergy Operations, Inc. (the licensee), submitted this request separately. The change is needed to ensure appropriate shutdown margin can be maintained during reload design for future cycles beginning with Cycle 19.

Date of issuance: May 11, 2012.

Effective date: As of the date of issuance and shall be implemented prior to startup from the spring 2012 refueling outage.

Amendment No: 190.

Facility Operating License No. NPF-29: The amendment revised the Facility Operating License and Technical Specifications.

Date of initial notice in Federal Register: February 7, 2012 (77 FR 6148). The supplemental letter dated March 21, 2012, provided additional information that clarified the application, did not expand the scope of the application as originally noticed, and did not change the staff's original proposed no significant hazards consideration determination as published in the Federal Register.

The Commission's related evaluation of the amendment is contained in a Safety Evaluation dated May 11, 2012.

No significant hazards consideration comments received: No.

Exelon Generation Company, LLC, Docket Nos. STN 50-456 and STN 50-457, Braidwood Station, Units 1 and 2, Will County, Illinois; Docket Nos. STN 50-454 and STN 50-455, Byron Station, Units 1 and 2, Ogle County, Illinois

Date of application for amendment: March 14, 2011, as supplemented by letters dated September 2, 2011, and November 18, 2011.

Brief description of amendment: The license amendment request changes the facility operating licenses and the Technical Specifications (TSs) 3.4.12-1, for the Braidwood Station, Units 1 and 2 and Byron Station, Unit Nos. 1 and 2. The proposed change will reflect standard wording incorporated in NUREG-1431, Revision 3, “Standard Technical Specifications-Westinghouse Plants,” for plants with installed bypass test capability. The proposed change is needed to support utilization of bypass test capability that is planned to be installed, which will reduce the potential for unnecessary reactor trips or safeguards actuation due to a failure or transient in a redundant channel.

Date of issuance: March 30, 2012.

Effective date: As of the date of issuance and shall be implemented within 60 days.

Amendment Nos.: Braidwood Unit 1—169; Braidwood Unit 2—169; Byron Unit 1—176 and Byron Unit 2-176.

Facility Operating License Nos. NPF-72. NPF-77, NPF-37, and NPF-66: The amendments revised the Technical Specifications and License.

Date of initial notice in Federal Register: August 16, 2011 (76 FR 50759). The September 2, 2011, and November 18, 2011, supplements contained clarifying information and did not change the staff's initial proposed finding of no significant hazards consideration.

The Commission's related evaluation of the amendments is contained in a Safety Evaluation dated March 30, 2012.

No significant hazards consideration comments received: No.

Exelon Generation Company, LLC, Docket No. 50-461, Clinton Power Station, Unit 1, DeWitt County, Illinois

Date of application for amendment: June 13, 2011.

Brief description of amendment: The amendment modifies Clinton Power Station, Unit 1 (CPS), Technical Specification (TS) Limiting Condition for Operation (LCO) 3.1.2, “Reactivity Anomalies,” through a revision to the method for calculating core reactivity for the purpose of performing an anomaly check. The reactivity anomaly verification is currently determined by comparison of predicted vs. monitored control rod density. The proposed method would compare predicted vs. monitored keffective (keff).

Date of issuance: March 1, 2012.

Effective date: As of the date of issuance and shall be implemented within 60 days.

Amendment No.: 198.

Facility Operating License No. NPF-62: The amendment revised the Technical Specifications and License.

Date of initial notice in Federal Register: October 4, 2011.

The Commission's related evaluation of the amendment is contained in a Safety Evaluation dated March 1, 2012.

No significant hazards consideration comments received: No.

Exelon Generation Company, LLC, Docket No. 50-289, Three Mile Island Nuclear Station, Unit 1 (TMI-1), Dauphin County, Pennsylvania

Date of application for amendment: October 18, 2011, supplemented by letters dated January 20, 2012, and April 11, 2012.

Brief description of amendment: The amendment involves administrative changes. The changes include correcting typographical errors, making format changes, clarifying symbols and pages, reformatting of previously deleted pages, incorporating a consistent abbreviation of average reactor coolant temperature, deleting notes that are no longer applicable, and replacing certain drawing figures with versions that have a corrected title block.

Date of issuance: May 7, 2012.

Effective date: Immediately, and shall be implemented within 60 days.

Amendment No.: 278.

Facility Operating License No. DPR-50: Amendment revised the license and the technical specifications.

Date of initial notice in Federal Register: December 13, 2011 (76 FR 77567).

The supplements dated January 20, 2012, and April 11, 2012, provided additional information that clarified the application, did not expand the scope of the application as originally noticed, and did not change the NRC staff's original proposed no significant hazards determination.

The Commission's related evaluation of the amendment is contained in a Safety Evaluation dated May 7, 2012.

No significant hazards consideration comments received: No.

PPL Susquehanna, LLC, Docket No. 50-388, Susquehanna Steam Electric Station, Unit 2, Luzerne County, Pennsylvania

Date of application for amendment: March 8, 2012, as supplemented by letters dated March 23, March 29, and April 2, 2012.

Brief description of amendment: On April 19, 2012, the U.S. Nuclear Regulatory Commission issued Amendment No. 258 to Renewed Facility Operating License No. NPF-22 for the Susquehanna Steam Electric Station, Unit 2 (SSES Unit 2). Due to a typographical error, the amendment was incorrectly numbered. The correct Amendment No. is 238. This amendment was originally noticed in the Federal Register on May 15, 2012 (77 FR 28636). All references to Amendment No. 258 in the U.S. Nuclear Regulatory Commission's letter dated April 19, 2012, have been corrected by letter dated April 27, 2012. The amendment allows an extension of 24 hours to the Completion Time for Condition C in the SSES Unit 2 Technical Specification (TS) 3.8.7, “Distribution Systems-Operating,” to allow a Unit 1 4160 V subsystem to be de-energized and removed from service for 96 hours to perform modifications on the bus. It also allows an extension of 24 hours to the Completion Time for Condition A in SSES Unit 2 TS 3.7.1, “Plant Systems-RHRSW [residual heat removal service water system] and UHS [ultimate heat sink],” to allow the UHS spray array and spray array bypass valves associated with applicable division RHRSW, and in Condition B, the applicable division Unit 2 RHRSW subsystem, to be inoperable for 96 hours during the Unit 1 4160 V bus breaker control logic modifications.

Date of issuance: April 19, 2012.

Effective date: As of the date of issuance and shall be implemented within 30 days from the date of issuance.

Corrected Amendment No.: 238.

Facility Operating License No. NPF-22: This amendment revised the License and Technical Specifications.

Date of initial notice in Federal Register: March 16, 2012 (77 FR 15814).

The supplements dated March 23, March 29, and April 2, 2012, provided additional information that clarified the application, did not expand the scope of the application as originally noticed, and did not change the staff's original proposed no significant hazards consideration determination as published in the Federal Register.

The Commission's related evaluation of the amendment is contained in a Safety Evaluation dated April 19, 2012, which also contains its final no significant hazards consideration determination.

No significant hazards consideration comments received: No.

Dated at Rockville, Maryland, this 17th day of May 2012.
For the Nuclear Regulatory Commission.
Michele G. Evans,
Director, Division of Operating Reactor Licensing, Office of Nuclear Reactor Regulation.

[FR Doc. 2012-12687 Filed 5-25-12; 8:45 am]

BILLING CODE 7590-01-P